DEPARTMENT OF AGRICULTURE

Office of the Secretary

7 CFR Part 2

Delegations of Authority by the Secretary of Agriculture and General Officers of the Department

CFR Correction

In Title 7 of the Code of Federal Regulations, Parts 1 to 26, revised as of January 1, 2019, on page 197, in § 2.22, paragraphs (xiv) and (xv), between paragraphs (a)(1)(viii)(X) and (a)(1)(viii)(Y) are removed.

[FR Doc. 2019-27405 Filed 12-17-19; 8:45 am]

BILLING CODE 31301-00-D